DEPARTMENT OF ENERGY

Federal Energy Regulatory Commission

[Docket No. EL05-89-000]

Maine Public Utilities Commission, Complainant v. Central Maine Power Company and Bangor Hydro-Electric Company, Respondent; Notice of Complaint Filing

April 5, 2005.

Take notice that on April 4, 2005, the Maine Public Utilities Commission (MPUC) filed a complaint against Central Maine Power Company (CMP) and Bangor Hydro-Electric Company (BHE), alleging that the currently effective returns on equity (ROE) for CMP and BHE are unjust and unreasonable. MPUC states that it bases its claim on the testimony filed by the Connecticut Department of Public Utility Control in Docket No. ER04-157-004, et al. MPUC request that the Commission: (1) Consolidate its complaint with the proceeding in Docket No. ER04-157-004 et al., (2) set the refund effective date at 60 days after the date of its complaint filing, (3) find that the current ROEs for CMP and BHE are unjust and unreasonable and that the ROEs for both RNS and LNS must be reduced to 8.74 percent or not more than 9.26 percent, and (4) order that the ROEs of the other New England Transmission Owners be reduced to the same extent.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protest must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: April 25, 2005.

Linda Mitry,
Deputy Secretary.

[FR Doc. E5-1704 Filed 4-11-05; 8:45 am]

BILLING CODE 6717-01-P